DEPARTMENT OF HEALTH AND HUMAN SERVICES

Centers for Disease Control and Prevention (CDC)

Board of Scientific Counselors, National Center for Health Marketing, (BSC, NCHM)

Correction: This notice was published in the Federal Register on May 22, 2008, Volume 73, Number 100, page 29759. The Committee will now convene as follows:

June 5, 2008

10 a.m.-12 p.m.: CDC, Auditorium A, Building 19, 1600 Clifton Road, NE., Atlanta, Georgia 30333.

1 p.m.-5 p.m.: CDC, Room 247-248, Building 19, 1600 Clifton Road, NE., Atlanta, Georgia 30333.

June 6, 2008

8:30 a.m.-12:30 p.m.: CDC, Room 245-246, Building 19, 1600 Clifton Road, NE., Atlanta, Georgia 30333.

The Director, Management Analysis and Services Office, has been delegated the authority to sign Federal Register notices pertaining to announcements of meetings and other committee management activities, for both CDC and the Agency for Toxic Substances and Disease Registry.

Dated: May 23, 2008.
Elaine L. Baker,
Director, Management Analysis and Services Office, Centers for Disease Control and Prevention.

[FR Doc. E8-12125 Filed 5-29-08; 8:45 am]

BILLING CODE 4163-18-P